FEDERAL MINE SAFETY AND HEALTH REVIEW COMMISSION

Sunshine Act Meetings

December 7, 2009.

Time and Date: 10 a.m., Thursday, December 17, 2009.

Place: The Richard V. Backley Hearing Room, 9th Floor, 601 New Jersey Avenue, NW., Washington, DC.

Status: Open.

Matters to be Considered: The Commission will hear oral argument in the matter Secretary of Labor v. Cumberland Coal Resources, LP, Docket Nos. PENN 2008-51-R, et seq. (Issues include whether an order issued to the operator under 30 CFR 75.363(a) (requiring that hazardous conditions be corrected or posted) should be amended to allege a violation of 30 CFR 75.360(b) (requiring that the person conducting a preshift examination identify hazardous conditions).

Any person attending this oral argument who requires special accessibility features and/or auxiliary aids, such as sign language interpreters, must inform the Commission in advance of those needs. Subject to 29 CFR 2706.150(a)(3) and 2706.160(d).

Contact Person for More Information: Jean Ellen, (202) 434-9950/(202) 708-9300 for TDD Relay/1-800-877-8339 for toll free.

Jean H. Ellen,
Chief Docket Clerk.

[FR Doc. E9-29606 Filed 12-8-09; 4:15 pm]

BILLING CODE 6735-01-P